SMALL BUSINESS ADMINISTRATION

Public Federal Regulatory Enforcement Fairness Roundtable; Region VII Regulatory Fairness Board

The Small Business Administration Region VII Regulatory Fairness Board and the SBA Office of the National Ombudsman will hold a Public Roundtable on Thursday, November 18, 2004 at 8:30 a.m. at the Bradbury Thompson Center on the Campus of Washburn University, 1700 SW College Avenue, Topeka, KS 66621-0001, to provide small business owners and representatives of trade associations with an opportunity to share information concerning the Federal regulatory enforcement and compliance environment.

Anyone wishing to attend or to make a presentation must contact Gary Cook in writing or by fax, in order to be put on the agenda. Gary Cook, District Director, SBA Kansas City District Office, 323 W 8th Street, Suite 501, Kansas City, MO 64105, phone (816) 374-6897, fax (816) 374-6759, e-mail: gary.cook@sba.gov.

For more information, see our Web site at http://www.sba.gov/ombudsman.

Dated: October 28, 2004.
Peter Sorum,
Senior Advisor, Office of the National Ombudsman.

[FR Doc. 04-24497 Filed 11-2-04; 8:45 am]

BILLING CODE 8025-01-P